NUCLEAR REGULATORY COMMISSION

Sunshine Act Meeting

DATES: Weeks of August 27, September 3, 10, 17, 24, October 1, 2007.

PLACE: Commissioners' Conference Room, 11555 Rockville Pike, Rockville, Maryland.

STATUS: Public and Closed.

Matters to be Considered

Week of August 27, 2007

Thursday, August 30, 2007

9 a.m. Affirmation Session (Public Meeting) (Tentative).

a. Final Rule: 10 CFR parts 30, 31, 32, and 150—Exemptions from Licensing, General Licenses, and Distribution of Byproduct. Material: Licensing and Reporting Requirements (RIN 3150-AH41) (Tentative).

b. Pacific Gas and Electric Co. (Diablo Canyon ISFSI), Docket No. 72-26-ISFSI, San Luis Obispo Mothers for Peace's Contentions and Request for Hearing Regarding Diablo Canyon Environmental Assessment Supplement (Tentative).

c. Southern Nuclear Operating Co. (Early Site Permit for Vogtle ESP Site—Certified Question Regarding Conduct of Mandatory Hearing (Tentative).

Week of September 3, 2007—Tentative

Tuesday, September 4, 2007

2:30 p.m. Briefing on Radioactive Materials Security and Licensing (Public Meeting) (Contact: Robert Lewis, 301-415-8722).

Week of September 10, 2007—Tentative

There are no meetings scheduled for the Week of September 10, 2007.

Week of September 17, 2007—Tentative

There are no meetings scheduled for the Week of September 17, 2007.

Week of September 24, 2007—Tentative

There are no meetings scheduled for the Week of September 24, 2007.

Week of October 1, 2007—Tentative

Tuesday, October 2, 2007

9:30 a.m. Periodic Briefing on Security Issues (Closed—Ex. 1 & 3).

Wednesday, October 3, 2007

2 p.m. Briefing on NRC's International Programs, Performance, and Plans (Public Meeting) (Contact: Karen Henderson, 301-415-0202).

The schedule for Commission meetings is subject to change on short notice. To verify the status of meetings call (recording)—(301) 415-1291. Contact person for more information: Michelle Schroll, (301) 415-1662.

The NRC Commission Meeting Schedule can be found on the Internet at: www.nrc.gov/about-nrc/policy-making/schedule.html.

The NRC provides reasonable accommodation to individuals with disabilities where appropriate. If you need a reasonable accommodation to participate in theses public meetings, or need this meeting notice or the transcript or other information from the public meetings in another format (e.g., braille, large print), please notify the NRC's Disability Program Coordinator, Rohn Brown, at 301-492-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: August 23, 2007.
R. Michelle Schroll,
Office of the Secretary.

[FR Doc. 07-4237 Filed 8-24-07; 10:29 am]

BILLING CODE 7590-01-M